DEPARTMENT OF TRANSPORTATION

Federal Aviation Administration

Sixteenth Meeting: RTCA Special Committee 225, Rechargeable Lithium Battery and Battery Systems—Small and Medium Size

AGENCY: Federal Aviation Administration (FAA), U.S. Department of Transportation (DOT).

ACTION: Meeting notice of RTCA Special Committee 225, Rechargeable Lithium Battery and Battery Systems—Small and Medium Size.

SUMMARY: The FAA is issuing this notice to advise the public of the sixteenth meeting of the RTCA Special Committee 225, Rechargeable Lithium Battery and Battery Systems—Small and Medium Size.

DATES: The meeting will be held May 13-15, 2014 from 9:00 a.m.-5:00 p.m.

ADDRESSES: The meeting will be held at RTCA Headquarters, 1150 18th Street NW., Suite 910, Washington, DC 20036.

FOR FURTHER INFORMATION CONTACT: The RTCA Secretariat, 1150 18th Street NW., Suite 910, Washington, DC 20036, or by telephone at (202) 330-0662/(202) 833-9339, fax (202) 833-9434, or Web site at http://www.rtca.org. In addition, Jennifer Iversen may be contacted directly at email: jiversen@rtca.org.

SUPPLEMENTARY INFORMATION: Pursuant to section 10(a)(2) of the Federal Advisory Committee Act (Pub. L. 92-463, 5 U.S.C., App.), notice is hereby given for a meeting of Special Committee 225. The agenda will include the following:

May 13

• Introductions and administrative items (including DFO Statement).

• Review agenda.

• Review and approval of summary from the last Plenary.

• Review PMC presentation and decisions regarding NTSB and two FRACs.

• Review results of meeting with FAA/RTCA/SC-225 Leadership.

• Update DO-311A plan based on PMC decisions, including working group meetings.

• Adjourn to working group to review/revise DO-311A.

• Review action items.

May 14

• Review agenda, other actions.

• Adjourn to working group to review/revise DO-311A.

• Review action items.

May 15

• Review agenda, other actions.

• Review schedule for upcoming Plenaries and working group meetings.

• Establish agenda for the next Plenary.

• Adjourn to working group to review/revise DO-311A.

• Working Group Report.

• Review action items.

• Adjourn.

Attendance is open to the interested public but limited to space availability. With the approval of the chairman, members of the public may present oral statements at the meeting.

Persons wishing to present statements or obtain information should contact the person listed in the FOR FURTHER INFORMATION CONTACT section. Members of the public may present a written statement to the committee at any time.

Issued in Washington, DC, on April 23, 2014.
Paige Williams,
Management Analyst, NextGen, Business Operations Group, Federal Aviation Administration.

[FR Doc. 2014-09871 Filed 4-29-14; 8:45 am]

BILLING CODE 4910-13-P